DEPARTMENT OF AGRICULTURE

Forest Service

Revised Land and Resource Management Plan for the Hoosier National Forest; Brown, Crawford, Dubois, Jackson, Lawrence, Martin, Monroe, Orange, and Perry Counties, Indiana

AGENCY: Forest Service, USDA.

ACTION: Notice of Intent to prepare environmental impact statement (EIS).

SUMMARY: The USDA Forest Service intends to prepare an environmental impact statement for revising the Hoosier National Forest Land and Resource Management Plan (Forest Plan) pursuant to 16 U.S.C. 1604(f)(5) and USDA Forest Service National Forest System Land and Resource Management Planning regulations. The revised Forest Plan will supersede the current Forest Plan, which the regional forester approved September 17, 1985, and has been amended 4 times. This notice describes the focus areas of change, the estimated dates for filing the EIS, the information concerning public participation, and the names and addresses of the responsible agency official and the individual who can provide additional information.

DATES: We need to receive your comments on this Notice of Intent in writing by January 31, 2001. The Draft EIS should be available for public review by December 2003. The Final EIS and revised Forest Plan should be completed by December 2004.

ADDRESSES: Send written comments to: NOI-FP Revision, Hoosier National Forest, 811 Constitution Avenue, Bedford, IN 47421, or direct electronic mail to: “r9 hoosier website”@fs.fed.us. ATTN: Forest Plan Revision

FOR FURTHER INFORMATION CONTACT: Regis Terney, Forest Planner, at 812-275-5987. TDD 812-275-7817; or direct electronic mail to: “r9 hoosier website”@fs.fed.us, or access the forest web page at www.fs.fed.us/r9/hoosier

Responsible Official: Robert T. Jacobs, Regional Forester, Eastern Region, 310 W. Wisconsin Ave, Milwaukee, Wisconsin 53203.

SUPPLEMENTARY INFORMATION: The Regional Forester for the Eastern Region gives notice of the agency's intent to prepare an EIS to revise the Hoosier National Forest Plan. The Regional Forester approved the original Hoosier National Forest Plan in September 1985. In April 1991, the Regional Forester approved a significant amendment that substantially replaced the 1985 Forest Plan. This plan guides the overall management of the Hoosier National Forest. We make six primary decisions in the Forest Plan:

1. Forest-wide multiple-use goals and objectives

2. Forest-wide management requirements

3. Management area direction

4. Lands suited and not suited for resource use and production (timber management etc.)

5. Monitoring and evaluation requirements

6. Recommendations to Congress (such as wilderness), if any

By the requirements of the National Forest Management Act, national forests must revise the Forest Plan at least every 15 years (U.S.C. 1604[f][5]). At this time, there are two reasons to revise the 1991 Forest Plan: (1) It is nearly 15 years since the Regional Forester approved the original plan, and (2) agency goals and objectives, along with other national guidance for strategic plans and programs, have changed. The agency Government Performance and Results Act Strategic Plan (2000) has shifted the course of agency program emphasis to sustainability.

In many south-central Indiana communities, people expect important products from managed forests such as: timber for wood products, minerals, and game species for hunting. People also value the opportunities forests provide for enjoying recreation, solitude, and scenic beauty. The Hoosier National Forest is integral to the sense of place for communities across south-central Indiana. When making decisions in the revised plan, we would examine economic and social impacts to local communities and at a broader regional level, as well as biological impacts.

We propose to narrow the scope of revising the Forest Plan, focusing on topics identified as being most critically in need of change. These were identified through public comment and through monitoring and evaluation:

Plan Goals: We propose changing the major plan goals to:

• Conservation of Endangered and Threatened Species Habitat;

• Maintain and Restore Sustainable Ecosystems;

• Maintain and Restore Watershed Health;

• Protect our Cultural Heritage;

• Provide for a Visually Pleasing Landscape;

• Provide Recreation Use in Harmony with Natural Communities;

• Provide a Useable Landbase; and,

• Provide for Human and Community Development.

We propose to add the goal of conservation of endangered species and threatened species habitat to further demonstrate our commitment to the Endangered Species Act of 1973. We propose to change our current goal of protect and manage ecosystems to maintain and restore sustainable ecosystems to adapt to the sustainable forest management strategy of the USDA Forest Service Natural Resource Agenda. We propose to add the goal to maintain and restore watershed health. We believe it is important to reaffirm the historic mission of the Hoosier National Forest for watershed protection and restoration.

Revision Topics:

1. Watershed Health

2. Ecosystem Sustainability

3. Recreation Management

4. Roadless Area Inventory and Evaluation

5. Wild and Scenic, and Recreational River Recommendations

6. Scenery Management

Additional detail on the Revision Topics is available on request, in the form of the document titled “Need for Change, Description of Proposal for Revising the Forest Plan of the Hoosier National Forest”. You are encouraged to review this additional document before commenting on the Notice of Intent. You may request the additional information by calling the phone number listed above, by writing or e-mailing to the address listed in this notice, or by accessing the forest web page at www.fs.fed.us/r9/hoosier.

We propose the following direction or actions:

• Identify desired conditions for healthy watersheds and riparian areas;

• Add direction to protect and restore watershed health;

• Update riparian guidance;

• Add desired conditions to sustain a wide range of habitat to provide for population viability of plant and animal populations and existing biotic communities within the capability of the Hoosier National Forest;

• Add in ecosystem approach that focuses on ecosystem integrity to complement the focus on population viability in assessment and management;

• Complete a population viability assessment;

• Maintain our current policy to allow a full range of vegetative management practices in Management Area 2.8;

• Revise the management indicator list consistent with planning regulations;

• Evaluate the potential Research Natural Areas using ecosystem-based selection criteria;

• Maintain our current policy precluding Off-Road Vehicle use on the forest (all-terrain vehicles, motorcycles, and four-wheel-drive trucks);

• Update the forest roadless inventory consistent with Forest Service policy;

• Follow the national framework to implement roadless areas initiative;

• Replace the Visual Quality Objectives with the Scenery Management System; and,

• Update the monitoring plan.

Proposed New Planning Regulations

The Department of Agriculture expects to publish the final planning rule during the fall of 2000. The proposed rule directs how to conduct forest planning. Given the information in the draft rule and the projected timelines, the Hoosier National Forest Plan revision is expected to be finished under the new planning rule. When the new planning rule is published we will evaluate the changes in analysis standards and we will likely publish an amended notice of intent.

Range of Alternatives

We will consider a range of alternatives when revising the Forest Plan. The alternatives will address different options to resolve issues over the focus areas of change listed above and to fulfill the purpose and need. A “no-action alternative” is required, meaning that management would continue under the existing Forest Plan. Alternatives will provide different ways to address and respond to issues identified during the scoping process.

The alternatives will display different mixes of recreation opportunities and experiences. We will examine alternatives that address the public's concerns for less timber harvest, for greater timber harvest, and meeting currently planned harvest levels. The alternatives will display different mixes of wildlife habitats across the forest. The mix will vary by the objectives of the particular alternative, though each alternative will contain the habitat necessary to maintain viable populations of plant and animal species. Management of roadless areas will vary by the objectives of any particular alternative, physical criteria for evaluating each individual roadless area, and public input.

We may make other minor changes, particularly in the guidance chapter of the Forest Plan, to reflect changes made when addressing the above revision topics. The USDA Forest Service proposal does not include any substantial changes to management area allocations. In 1991, we decided the basic philosophy of providing for plant and animal communities guides our forest management activities. As a result, we would not revisit this decision but would carry forward the 1991 plan amendment framework for biological diversity conservation.

We are committed to participate in statewide land management planning and the use of State watershed assessment results and coordination efforts, such as best management practices development for forest management. We would consider technical guidelines developed through these processes when developing guidance and will use the results of watershed assessments.

Inviting Public Participation

We are now soliciting comments and suggestions from federal agencies, state and local governments, individuals, and organizations on the scope of the analysis to be included in the draft environmental impact statement for the revised Forest Plan (40 CFR 1501.7). Comments should focus on (1) the proposal for revising the Forest Plan (2) possible alternatives for addressing issues associated with the proposal and (3) also identify any possible impacts associated with the proposal based on an individual's civil rights (race, color, national origin, age, religion, gender, disability, political beliefs, sexual orientation, marital or family status). We will encourage public participation in the environmental analysis and decision-making process.

In fall 2000, we would release our notice of intent and proposal. We will have many types of public involvement including: 60-day formal comment period, public meetings, written comments, website and e-mail.

In the years 2001 and 2002, we would work on alternative development and issue validation. We will have many types of public involvement including: public workshops, collaborative meetings, written comments, website, and e-mail.

In the years 2002 and 2003 we would release our proposed revised Forest Plan and a draft environmental impact statement. We will have many types of public involvement including 90-day formal comment period, public meetings, and written comments.

During 2004, we would release the decision, final revised Forest Plan, final environmental impact statement, and record of decision. We will have informational meetings to explain the decision on final Forest Plan.

The Forest Service will host a series of public meetings to (1) establish multiple opportunities for the public to generate ideas, concerns, and alternatives, (2) present and clarify proposed changes to the Forest Plan; (3) describe ways that individuals can respond to this Notice of Intent; and (4) accept comments from the public on this proposal for revising the Forest Plan.

We will provide the public with general notices on opportunities to participate through mailings, news releases, public meetings, and website (www.fs.fed.us/r9/hoosier). In addition to formal opportunities for public comment, we will consider comments received at any time throughout the revision process.

Below is the schedule of initial meetings based on publication of this NOI. We intend to have the most meetings in the first 30 days to give the public time to gather information, participate in meetings and then formulate comments before the close of the 60-day comment period. Additional meetings will be scheduled as needed.

December 4, 2000—Senior Community Center at 1369 Blue Bluff Road in Martinsville, IN, 6 pm to 9 pm (EST)

December 7, 2000—Best Western Old Capital Inn, on State Road 135 (exit 105 off of I-64) in Corydon, Indiana, 6 pm to 9 pm (EST)

Availability of Public Comment: Comments received in response to this solicitation, including names and addresses of those who comment, will be considered part of the public record on this proposed action and will be available for public inspection. Comments submitted anonymously will be accepted and considered; however, those who submit anonymous comments will not have standing to appeal the subsequent decisions under 36 CFR parts 215 or 217.

Additionally, pursuant to 7 CFR 1.27(d), any persons may request the agency to withhold a submission from the public record by showing how the FOIA (Freedom of Information Act) permits such confidentiality. Persons requesting such confidentiality should be aware that under FOIA confidentiality may be granted in only very limited circumstances, such as to protect trade secrets.

The Forest Service will inform the requester of the agency's decision regarding the request for confidentiality and where the requester is denied, the agency will return the submission and notify the requester that the comments may be resubmitted with or without name and address within 90 days.

Release and Review of the Draft EIS: The DEIS is expected to be filed with the Environmental Protection Agency (EPA) and to be available for public comment in 2003. At that time, the EPA will publish a notice of availability in the Federal Register. The comment period on the DEIS will be 90 days from the date the EPA publishes the notice of availability in the Federal Register.

The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Poser Corp. v. NRDS, 435 U.S. 519, 553 (1978). Also, environmental objections that could be raised at the draft environmental impact statement stage but that are not raised until after completion of the final environmental impact statement may be waived or dismissed by the courts. City of Angoon v. Hodel, 803 F.2d 1016, 1022 (9th cir. 1986) and Wisconsin Heritages, Inc. v. Harris, 490 F. Supp. 1334, 1338 (E.D. Wis. 1980). Because of these court rulings it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be specific as possible. It is also helpful if comments refer to specific pages or chapters of the draft statement. Comments may also address the adequacy of the draft environmental impact statement or the merits of the alternatives formulated and discussed in the statement. Reviewers may wish to refer to the Council of Environmental Quality Regulations (http://ceq.eh.doe.gov.nepa/nepanet.htm) for implementing the procedural provision of the National Environmental Policy Act at 40 CFR 1503.3 in addressing these points.

Dated: October 26, 2000.
Robert T. Jacobs,
Regional Forester.

[FR Doc. 00-27985 Filed 10-31-00; 8:45 am]

BILLING CODE 3410-11-M.